INTERNATIONAL TRADE COMMISSION

[Investigation Nos. 701-TA-699-700 and 702 and 731-TA-1660 (Final)]

Frozen Warmwater Shrimp From Ecuador, India, Indonesia, and Vietnam

Determinations

On the basis of the record ¹ developed in the subject investigations, the United States International Trade Commission (“Commission”) determines, pursuant to the Tariff Act of 1930 (“the Act”), that an industry in the United States is materially injured by reason of imports of frozen warmwater shrimp from Indonesia, provided for in subheadings 0306.17.00, 1605.21.10, and 1605.29.10 of the Harmonized Tariff Schedule of the United States, that have been found by the U.S. Department of Commerce (“Commerce”) to be sold in the United States at less than fair value (“LTFV”), and imports of frozen warmwater shrimp from Ecuador, India, and Vietnam that have been found by Commerce to be subsidized by the governments of Ecuador, India, and Vietnam.²

¹ The record is defined in § 207.2(f) of the Commission's Rules of Practice and Procedure (19 CFR 207.2(f)).

² 89 FR 85498, 89 FR 85506, 89 FR 85502, and 89 FR 85500 (October 28, 2024).

Background

The Commission instituted these investigations effective October 25, 2023, following receipt of petitions filed with the Commission and Commerce by the American Shrimp Processors Association, Port Arthur, Texas. The final phase of the investigations was scheduled by the Commission following notification of preliminary determinations by Commerce that imports of frozen warmwater shrimp from Ecuador, India, and Vietnam were subsidized within the meaning of section 703(b) of the Act (19 U.S.C. 1671b(b)) and imports of frozen warmwater shrimp from Indonesia were sold at LTFV within the meaning of 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register on June 26, 2024 (89 FR 53444). The Commission conducted its hearing on October 22, 2024. All persons who requested the opportunity were permitted to participate.

³ Commerce published notices in the Federal Register of a negative final countervailing duty determination in connection with the subject investigation concerning Indonesia and of a negative final determination of sales at less than fair value in connection with the subject investigation concerning Ecuador (89 FR 85512 and 89 FR 85508, October 28, 2024). Accordingly, effective October 28, 2024, the Commission terminated its countervailing duty investigation concerning imports of frozen warmwater shrimp from Indonesia and its antidumping duty investigation concerning imports of frozen warmwater shrimp from Ecuador (89 FR 88061, November 6, 2024).

The Commission made these determinations pursuant to §§ 705(b) and 735(b) of the Act (19 U.S.C. 1671d(b) and 19 U.S.C. 1673d(b)). It completed and filed its determinations in these investigations on December 12, 2024. The views of the Commission are contained in USITC Publication 5566 (December 2024), entitled Frozen Warmwater Shrimp from Ecuador, India, Indonesia, and Vietnam: Investigation Nos. 701-TA-699-700 and 702 and 731-TA-1660 (Final).

By order of the Commission.
Issued: December 12, 2024.
Lisa Barton,
Secretary to the Commission.

[FR Doc. 2024-29730 Filed 12-16-24; 8:45 am]

BILLING CODE 7020-02-P